DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from August 24, to August 28, 2009.

For further information, please contact Edson Beall via: United States Postal Service mail, at the National Register of Historic Places, 2280, National Park Service, 1849 C St., NW., Washington, DC 20240; in person (by appointment), 1201 Eye St., NW., 8th floor, Washington, DC 20005; by fax, 202-371-2229; by phone, 202-354-2255; or by e-mail, Edson_Beall@nps.gov.

Dated: October 20, 2009.
J. Paul Loether,
Chief, National Register of Historic Places/National Historic Landmarks Program.

KEY: State, County, Property Name, Address/Boundary, City, Vicinity, Reference Number, Action, Date, Multiple Name

MARYLAND

Baltimore County

Baltimore County Jail, 222 Courthouse Court, Towson, 09000644, LISTED, 8/26/09

Kent County

Still Pond Historic District, Still Pond Rd., Old Still Pond Rd., Main St., Medders Rd., Maple Ave., Trustee St., Still Pond, 09000645, LISTED, 8/26/09

MASSACHUSETTS

Plymouth County

Tarklin School, 245 Summer St., Duxbury, 09000647, LISTED, 8/26/09

MINNESOTA

McLeod County

Komensky School, 19981 Major Ave., Hutchinson vicinity, 09000622, LISTED, 8/20/09

Ramsey County

O'Donnell Shoe Company Building, 509 Sibley St., St. Paul, 09000623, LISTED, 8/20/09

MISSOURI

Cape Girardeau County

Old Appleton Bridge, Main St. over Apple Creek, Old Appleton, 09000648, LISTED, 8/25/09

NEBRASKA

Douglas County

Northern Natural Gas Building, 2223 Dodge St., Omaha, 09000649, LISTED, 8/26/09

Merrick County

Nelson Farm, 1139 M Rd., Central City vicinity, 09000650, LISTED, 8/26/09

NEW JERSEY

Burlington County

Zurburgg Mansion, 531 Delaware Ave., Delanco, 09000651, LISTED, 8/28/09

Hunterdon County

Lebanon Historic District, Main St., Cherry St., Brunswick Ave., Maple St., High St., Lebanon Borough, 09000652, LISTED, 8/26/09

NEW YORK

Chenango County

Emmanuel Episcopal Church Complex, 37 W. Main St., Norwich, 09000654, LISTED, 8/26/09

Monroe County

Linden-South Historic District, 25-272 Linden St., both sides; 809-835 South Ave., odd numbers only, Rochester, 09000655, LISTED, 8/26/09

Suffolk County

Foster-Meeker House, 101 Mill Rd., Westhampton Beach, 09000656, LISTED, 8/26/09

Tompkins County

Rogues Harbor Inn, 2079 E. Shore Dr., Lansing, 09000657, LISTED, 8/26/09

NORTH CAROLINA

Greene County

Snow Hill Historic District (Boundary Increase), W. Harper St. between W. 6th St. and W. 4th St., Snow Hill, 09000658, LISTED, 8/27/09

Nash County

Rocky Mount Central City Historic District (Boundary Increase and Decrease), Portions of 26 blocks on Main, Washington, Church, Battle, Hammond, Hill, Howard, Ivy, Gay, Goldleaf, and Thomas Sts., Rocky Mount, 09000659, LISTED, 8/27/09

Person County

Roxboro Cotton Mill, 115 Lake Dr., Roxboro, 09000660, LISTED, 8/27/09

Wake County

Carolina Coach Garage and Shop, 510 E. Davie St., Raleigh, 09000661, LISTED, 8/27/09

Wayne County

Yelverton, Dred and Ellen, House, 1979 NC 222 E., Fremont vicinity, 09000662, LISTED, 8/27/09

TENNESSEE

Greene County

Maden Hall Farm, 3225 Kingsport Highway, Greeneville vicinity, 09000667, LISTED, 8/27/09

VIRGINIA

Culpeper County

South East Street Historic District, S.E., E. Asher, E. Chandler, and Page Sts., and Culpeper National Cemetery, Culpeper, 09000663, LISTED, 8/27/09

Loudoun County

Rock Hill Farm, 20775 Airmont Rd., Bluemont vicinity, 09000664, LISTED, 8/27/09

Petersburg Independent City

Atlantic Coast Line Railroad Commercial and Industrial Historic District, 200-300 W. Washington, 4-42 S. Market, 100-100 Perry, 200-300 block W. Wythe, 200 block Brown Sts., Petersburg, 09000665, LISTED, 8/27/09

Roanoke County

Anderson-Doosing Farm, 7474 VA 785, Catawba vicinity, 09000666, LISTED, 8/27/09

[FR Doc. E9-26377 Filed 11-2-09; 8:45 am]

BILLING CODE P